FEDERAL ELECTION COMMISSION

Sunshine Act Notices

Agency: Federal Election Comission.

Date & Time: Thursday, April 12, 2007, at 10 a.m.

Place: 999 E Street, NW., Washington, DC (ninth floor).

Status: This meeting will be open to the public.

Items to be Discussed: Correction and Approval of Minutes.

Legislative Recommendations 2007.

Management and Administrative Matters.

FOR FURTHER INFORMATION CONTACT: Mr. Robert Biersack, Press Officer, Telephone: (202) 694-1220.

Mary W. Dove,
Secretary of the Commission.

[FR Doc. 07-1773 Filed 4-5-05; 2:28 pm]

BILLING CODE 6715-01-M